GOVERNMENT ACCOUNTABILITY OFFICE

Methodology Committee of the Patient-Centered Outcomes Research Institute (PCORI); Nominations

AGENCY: Government Accountability Office (GAO)

ACTION: Call for Nominations.

SUMMARY: The Patient Protection and Affordable Care Act gave the Comptroller General of the United States responsibility for appointing not more than 15 members to a Methodology Committee of the Patient-Centered Outcomes Research Institute. In addition, the Directors of the Agency for Healthcare Research and Quality and the National Institutes of Health, or their designees, are members of the Methodology Committee. Methodology Committee members must meet the qualifications listed in Section 6301 of the Act. We are accepting nominations for one vacancy on the Committee. Expertise in health informatics, especially expertise in developing data networks or decision support for clinicians and patients, would be beneficial. Letters of nomination and resumes should be submitted by November 17, 2014 to ensure adequate opportunity for review and should be sent to either the email or mailing address listed below.

ADDRESSES: Email: PCORIMethodology@gao.gov.

Mail: U.S. GAO, Attn: PCORI Methodology Committee Appointments 441 G Street NW., Washington, DC 20548.

FOR FURTHER INFORMATION CONTACT: GAO: Office of Public Affairs, (202) 512-4800.

[Sec. 6301, Pub. L. 111-148]

Gene L. Dodaro,
Comptroller General of the United States.

[FR Doc. 2014-24875 Filed 10-17-14; 8:45 am]

BILLING CODE 1610-02-M